NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection.

NSF issued a permit (ACA 2020-004) to Leidos Innovations Corporation on November 8, 2019. The issued permit allows the permit holder to conduct waste management activities associated with the implementation of the United States Antarctic Program (USAP). The USAP Master Waste permit applies to all USAP activities, including major reconstruction and modernization efforts, conducted by all organizations supporting or supported by the Program. This includes the transport of both hazardous and non-hazardous waste from Antarctica to the United States. Under this permit, Leidos collects, stores, and ships both hazardous and non-hazardous waste materials and is responsible for the final disposition of these materials upon return to the United States.

Now the permit holder proposes a permit modification to revise and update several statements regarding the handling and disposition of hazardous wastes from Palmer Station and the research vessels as follows to more accurately reflect current and planned practices.

Permit Application Page 4-11

Original text: Nonhazardous wastes generated at the [Palmer] station will be transported by vessel to Chile and Antarctic hazardous wastes will be retrograded directly to the United States.

Revised text: Nonhazardous wastes generated at the station will be transported by vessel to Chile. Antarctic hazardous wastes will be removed from the Antarctic for final disposition in either the United States or another nation in accordance with all relevant statutes and regulations. The Antarctic hazardous waste may be transported to Chile and/or McMurdo Station as an intermediate step prior to retrograde to the final disposal location. Any temporary storage and transport activities would comply with all applicable regulations in Chile and the 15-month storage period maximum for Antarctic hazardous wastes at McMurdo Station established by the ACA [Antarctic Conservation Act].

Permit Application Page 4-14

Original text: Antarctic hazardous wastes generated onboard the ARSV Laurence M. Gould because of scientific research activities will typically be offloaded at Palmer Station for subsequent processing, interim storage, and retrograde to the United States. Because of the RVIB Nathaniel B. Palmer's size, it cannot access the docking facilities at Palmer Station and therefore research-related Antarctic hazardous waste generated onboard may be transferred to the ARSV Laurence M. Gould, offloaded at McMurdo Station, or transported directly to the United States.

Revised text: Antarctic hazardous wastes generated onboard the ARSV Laurence M. Gould and RVIB Nathaniel B. Palmer will typically be offloaded at Palmer Station for subsequent processing, interim storage, and retrograde for final disposition. Depending on the vessels' schedules, Antarctic hazardous waste may sometimes be transferred from one vessel to the other in order to consolidate the Antarctic hazardous wastes from both vessels into one shipment. Additionally, Antarctic hazardous waste can be offloaded at McMurdo Station instead of Palmer Station for subsequent processing, interim storage, and retrograde. Antarctic hazardous waste may also be retrograded directly to the final disposition location instead of being offloaded at one of the research stations first.

The Environmental Officer has reviewed the modification request and has determined that the amendment is not a material change to the permit, and it will have a less than a minor or transitory impact.

Dates of Permitted Activities: November 8, 2019 to September 30, 2024.

The permit modification was issued on June 4, 2021.
Erika N. Davis,
Program Specialist, Office of Polar Programs.

[FR Doc. 2021-12082 Filed 6-8-21; 8:45 am]

BILLING CODE 7555-01-P